DEPARTMENT OF DEFENSE

Department of the Navy

Public Hearings for the Draft Environmental Impact Statement and Draft Clean Air Act Conformity Determination for Introduction of F/A-18 E/F Super Hornet Aircraft to the East Coast of the United States

AGENCY: Department of the Navy, DOD.

ACTION: Announcement of public hearing.

SUMMARY: Pursuant to Section 102(2) of the National Environmental Policy Act (NEPA) of 1969 as implemented by the Council on Environmental Quality regulations (40 CFR Parts 1500-1508), and the Clean Air Act, General Conformity Rule (40 CFR Part 93), the Department of the Navy (Navy) has prepared and filed with the U.S. Environmental Protection Agency a Draft Environmental Impact Statement (DEIS) and Draft Clean Air Act (CAA) Conformity Determination to evaluate the introduction of F/A-18 E/F Super Hornet aircraft to the east coast of the United States. In accordance with these laws and regulations, this notice announces the dates and locations of public hearings.

DATES AND ADDRESSES: An open information session will precede the scheduled public hearing at each of the locations listed below and will allow individuals to review the data presented in the DEIS. Navy representatives will be available during the information session to clarify information related to the DEIS. Unless noted, the open information session of the hearing is scheduled from 4:30 p.m. to 6:30 p.m., followed by the public hearing from 7 p.m. to 9:30 p.m. Public hearings have been scheduled at the following dates, locations, and times:

—Tuesday, August 20, 2002, Tucker Creek Middle School, 200 Sermons Blvd, Havelock, NC.

—Wednesday, August 21, 2002, Craven Community College, Orringer Hall, 800 College Court, New Bern, NC.

—Thursday, August 22, 2002, Pamlico County Primary School, 323 Neal Creek Rd, Bayboro, NC.

—Monday, August 26, 2002, North Carolina Aquarium and Marine Center, Airport Rd, Manteo, NC. (information session begins at 5:30 p.m.)

—Tuesday, August 27, 2002, Mattamuskeet School, 60 Juniper Bay Rd, Swan Quarter, NC.

—Wednesday, August 28, 2002, Bertie High School, 715 US 13 North, Windsor, NC.

—Thursday, August 29, 2002, Vernon G. James Center, 207 Research Station Rd, Plymouth, NC.

—Tuesday, September 3, 2002, Perquimans County High School, 305 Edenton Road St, Hertford, NC.

—Wednesday, September 4, 2002, Pavilion Convention Center, 1000 19th St, VA Beach, VA.

—Thursday, September 5, 2002, Great Bridge High School, 301 W. Hanbury Rd, Chesapeake, VA.

—Tuesday, September 10, 2002, Battery Creek High School, 1 Blue Dolphin Dr, Beaufort, SC.

—Wednesday, September 11, 2002, Eulonia Community Senior Center, GA. Highway 57, Eulonia, GA.

—Thursday, September 12, 2002, Burke County Office Park Auditorium, 715 W. 6th St, Waynesboro, GA.

FOR FURTHER INFORMATION CONTACT: Mr. Fred Pierson, NEPA Section, Atlantic Division, Naval Facilities Engineering Command Norfolk, (757) 322-4935; Mr. Ray Firenze, Community Planning Liaison Office, Naval Air Station (NAS) Oceana, (757) 433-3158; Ms. Pam Breuer, Community Planning Liaison Office, Marine Corps Air Station (MCAS) Cherry Point, (252) 466-4196; or LtCol St. George, Executive Officer, MCAS Beaufort, (843) 228-7158, Ext.7305.

SUPPLEMENTARY INFORMATION: The proposed action is to provide facilities and functions to support the homebasing and operation of 10 Super Hornet fleet squadrons (130 aircraft) and one Fleet Replacement Squadron (FRS) (32 aircraft) to replace the F-14 Tomcat (150 aircraft) and earlier model F/A-18 C/D Hornet (37 aircraft). The introduction of the Super Hornet would meet the need of Naval aviation for upgraded aircraft with increased range and endurance, the ability to carry heavier payloads, features that enhance survivability, and the flexibility to incorporate future systems and technologies to meet emerging threats. The Navy is lead agency for the proposed action with the Federal Aviation Administration (FAA) and the Department of the Air Force (Air Force) serving as cooperating agencies.

The DEIS considers eight homebasing alternatives and identifies two of those as preferred alternatives. East coast installations that meet operational criteria and are considered as possible receiving homebase sites for the F/A-18 E/F aircraft include NAS Oceana, VA; MCAS Beaufort, SC; and MCAS Cherry Point, NC. One preferred alternative would homebase six Super Hornet fleet squadrons and the FRS at NAS Oceana and four Super Hornet fleet squadrons at MCAS Cherry Point, and also construct a new Outlying Landing Field (OLF) between the two sites. The other preferred alternative would homebase eight Super Hornet squadrons and the FRS at NAS Oceana and two fleet squadrons at MCAS Cherry Point, and also construct a new OLF between the two sites. Both alternatives would homebase the majority of fleet squadrons at NAS Oceana, optimizing readiness and efficiency of operations through economies of scale in support, training and personnel requirements. These alternatives provide opportunities for mitigating noise, population encroachment, and air quality issues at NAS Oceana. The construction of an OLF provides the opportunity to further mitigate projected impacts of Super Hornet homebasing. The DEIS identifies six sites as potential locations for an OLF in the following counties:

—Perquimans County, NC. (approximately 5.5 miles north of Winfall, NC.); Bertie County, NC. (approximately 7 miles northeast of Windsor, NC.); Washington County, NC. (approximately 9 miles southeast of Plymouth, NC.); Craven County, NC. (approximately 5 miles east of Vanceboro, NC.); Hyde County, NC. (approximately 4 miles northwest of Engelhard, NC.); and Burke County, GA. (approximately 4 miles north of Sardia, GA.). The preferred OLF locations, under either homebasing alternative, are Site C in Washington County, NC. and Site E in Craven County, NC.. Each homebase and OLF alternative is assessed in the DEIS with regard to its effects on the natural and built environments.

The DEIS has been distributed to various Federal, state and local agencies, as well as other interested individuals and organizations. In addition, copies of the DEIS have been distributed to the following libraries for public review:

—VA Beach Central Library, 4100 VA Beach Blvd, VA Beach, VA.

—Bayside Area Library, 936 Independence Blvd, VA Beach, VA.—Great Neck Area Library, 1251 Bayne Dr, VA Beach, VA.

—Kempsville Area Library, 832 Kempsville Rd, VA Beach, VA.

—Oceanfront Area Library, 1811 Arctic Ave, VA Beach, VA.

—Pungo-Blackwater Library, 916 Princess Anne Rd, VA Beach, VA.

—South Rosemont Youth Library, 1503 Competitor Ct, VA Beach, VA.

—Windsor Woods Area Library, 3612 South Plaza Trail, VA Beach, VA.

—Municipal Reference Library, Municipal Center Bldg 17, VA Beach, VA.

—Wahab Public Law Library, Judicial Center Bldg 10B, 2425, Nimmo Parkway, VA Beach, VA.

—VA Beach Bookmobile, VA Beach, VA.

—Chesapeake Central Library, 298 Cedar Rd, Chesapeake, VA.

—Greenbrier Library, 1214 Volvo Parkway, Chesapeake, VA.

—Havelock-Craven County Library, 300 Miller Blvd, Havelock, NC.

—Beaufort County Library, 311 Scott St, Beaufort, SC.

—Pamlico County Library, 603 Main St, Bayboro, NC.

—Manteo-Dare County Libraries, 700 North US 64/264, Manteo, NC.

—Ida Hilton Public Library, 1105 North Way, Darien, GA.

—Perquimans County Library, 110 West Academy, Hertford, NC.

—Lawrence Memorial Library, 204 E. Dundee St, Windsor, NC.

—Washington Cty Library, 201 East Third St, Plymouth, NC.

—Mattamuskeet Public School Library, 20418 US Route 264, Swan Quarter, NC.

—Craven-Pamlico-Carteret Regional Library, 400 Johnson St, New Bern, NC.

—Burke County Library, 412 4th St, Waynesboro, GA.

—Sardis Library, 905 Charles Perry Ave, Sardis, GA.

An electronic copy of the DEIS is also available for public viewing at http://www.efaircraft.ene.com. A limited number of single copies of the DEIS, Executive Summary, and Draft CAA Conformity Determination are available upon request by contacting Mr. Fred Pierson at (757) 322-4935.

Federal, state, and local agencies, as well as interested parties are invited and urged to be present or represented at the hearing. Oral statements will be heard and transcribed by a stenographer; however, to ensure the accuracy of the record, all statements should be submitted in writing. All statements, both oral and written, will become part of the public record on the DEIS and Draft CAA Conformity Determination and will be responded to in the Final Environmental Impact Statement (FEIS). Equal weight will be given to both oral and written statements.

In the interest of available time and to ensure all who wish to give an oral statement have the opportunity to do so, each speaker's comments will be limited to three (3) minutes. If a longer statement is to be presented, it should be summarized at the public hearing and the full text submitted in writing either at the hearing or mailed or faxed to: Commander, Atlantic Division, Naval Facilities Engineering Command, Attn: Mr. Fred Pierson (Code BD32FP), 1510 Gilbert Street, Norfolk, VA 23511-2699, Fax (757) 322-4894. All written comments postmarked by October 2, 2002, will become a part of the official public record and will be responded to in the FEIS.

Dated: July 26, 2002.
R.E. Vincent, II,
Lieutenant Commander, Judge Advocate General's Corps, U.S. Navy, Federal Register Liaison Officer.

[FR Doc. 02-19423 Filed 7-31-02; 8:45 am]

BILLING CODE 3810-FF-P